DEPARTMENT OF ENERGY

Federal Energy Regulatory Commission

[Project No. 2701-061]

Erie Boulevard Hydropower, L.P.; Notice of Revised Procedural Schedule for Final Environmental Assessment for the Proposed Project Relicense

On February 26, 2021, Erie Boulevard Hydropower, L.P. (Erie) filed an application for a new major license to continue to operate and maintain the 39.75-megawatt (MW) West Canada Creek Hydroelectric Project No. 2701 (West Canada Creek Project). On June 27, 2022, Commission staff issued a notice of intent to prepare a draft and final Environmental Assessment (EA) to evaluate the effects of relicensing the West Canada Creek Project. The notice of intent included a schedule for preparing a draft and final EA. On September 6, 2023, Commission staff issued the draft EA. By notices issued September 21, 2023 and March 25, 2024, staff revised the procedural schedule for completing the final EA.

By this notice, Commission staff is updating the procedural schedule for completing the final EA. The revised schedule is shown below. Further revisions to the schedule may be made as appropriate.

Milestone | Target date
Issue Final EA | October 2024.

Any questions regarding this notice may be directed to Laurie Bauer at (202) 502-6519, or by email at laurie.bauer@ferc.gov.

Dated: October 1, 2024.
Debbie-Anne A. Reese,
Acting Secretary.

[FR Doc. 2024-23184 Filed 10-7-24; 8:45 am]

BILLING CODE 6717-01-P